DEPARTMENT OF ENERGY

Proposed Agency Information Collection Extension

AGENCY: Office of Energy Efficiency and Renewable Energy, U.S. Department of Energy.

ACTION: Notice and request for comments.

SUMMARY: The Department of Energy's (DOE, Office of Energy Efficiency and Renewable Energy (EERE), pursuant to the Paperwork Reduction Act of 1995, intends to extend for three years with the Office of Management and Budget (OMB), the EERE Environmental Questionnaire (OMB No. 1910-5175).

DATES: Comments regarding this proposed information collection extension must be received on or before June 12, 2020. If you anticipate difficulty in submitting comments within that period, contact the person listed in ADDRESSES as soon as possible.

ADDRESSES: Written comments may be sent to Lisa Jorgensen at: U.S. Department of Energy, 15013 Denver West Parkway, Golden, CO 80401, or by email at EEREEQComments@EE.DOE.gov.

FOR FURTHER INFORMATION CONTACT: Requests for additional information or copies of the EERE Environmental Questionnaire should be directed to Lisa Jorgensen at EEREEQComments@EE.DOE.gov or at (720) 356-1569. The EERE Environmental Questionnaire also is available for viewing in the Golden Field Office Public Reading Room at: www.energy.gov/node/2299401. If you have difficulty accessing this document, please contact Casey Strickland at (720) 356-1575.

SUPPLEMENTARY INFORMATION: Comments are invited on: (a) Whether the proposed collection of information is necessary for the proper performance of the functions of DOE, including whether the information shall have practical utility; (b) the accuracy of DOE's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5175; (2) Information Collection Request Title: Office of Energy Efficiency and Renewable Energy (EERE) Environmental Questionnaire; (3) Type of Request: Extension, with changes; (4) Purpose: The DOE's EERE provides federal funding through federal assistance programs to businesses, industries, universities, and other groups for renewable energy and energy efficiency research and development and demonstration projects. The National Environmental Policy Act (NEPA) of 1969 (42 U.S.C. 4321 et seq.) requires that an environmental analysis be completed for all major federal actions significantly affecting the environment including projects entirely or partly financed by federal agencies. To effectively perform environmental analyses for these projects, the DOE's EERE needs to collect project-specific information from federal financial assistance awardees. DOE's EERE has developed its Environmental Questionnaire to obtain the required information and ensure that its decision-making processes are consistent with NEPA as it relates to renewable energy and energy efficiency research and development and demonstration projects. Minor changes have been made to the Environmental Questionnaire that help to clarify certain questions, but do not change the meaning of the questions being asked. The average hours per response and annual estimated number of burden hours have increased due to the increase in complexity of the projects being selected by EERE in order to meet mission needs. The average hours per response have increased from one hour to one and one half hours. The annual estimated number of burden hours increased from 300 to 450. (5) Annual Estimated Number of Total Responses: 300; (6) Average Hours per Response: 1.5; and (7) Annual Estimated Number of Burden Hours: 450; (8) There is no cost associated with reporting and recordkeeping.

Statutory Authority: National Environmental Policy Act (NEPA) (42 U.S.C. 4321 et seq.).

Signed in Golden, CO on March 31, 2020.
Derek Passarelli,
Director, Golden Field Office, Office of Energy Efficiency and Renewable Energy.

[FR Doc. 2020-07720 Filed 4-10-20; 8:45 am]

BILLING CODE 6450-01-P